ENVIRONMENTAL PROTECTION AGENCY

40 CFR Part 300

[EPA-HQ-SFUND-1994-0009; FRL-9973-62-Region 10]

National Oil and Hazardous Substances Pollution Contingency Plan; National Priorities List: Deletion of the Vancouver Water Station #1 Superfund Site

AGENCY: Environmental Protection Agency (EPA).

ACTION: Final rule.

SUMMARY: The Environmental Protection Agency (EPA) Region 10 announces the deletion of the Vancouver Water Station #1 Superfund Site (Site) located in Vancouver, Washington, from the National Priorities List (NPL). The NPL, promulgated pursuant to section 105 of the Comprehensive Environmental Response, Compensation, and Liability Act (CERCLA) of 1980, as amended, is an appendix of the National Oil and Hazardous Substances Pollution Contingency Plan (NCP). The NPL refers to the Site as the Vancouver Water Station #1 Contamination Superfund Site. The EPA and the State of Washington, through the Department of Ecology, have determined that all appropriate response actions under CERCLA have been completed. However, this deletion does not preclude future actions under Superfund.

DATES: This action is effective February 6, 2018.

ADDRESSES: Docket: EPA has established a docket for this action under Docket Identification No. EPA-HQ-SFUND-1994-0009. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories at:

USEPA Region 10 Records Center, 1200 Sixth Avenue, Suite 900, Seattle, Washington, Monday through Friday, except Federal holidays, between 8:00 a.m. and 5:00 p.m., Phone: 206-552-1200 or 800-424-4372.

City of Vancouver Water Resources Education Center, 4600 SE Columbia Way, Vancouver, Washington, Monday through Friday, except holidays, between 9 a.m. and 5 p.m. and Saturday between noon and 5:00 p.m., Phone: 360-487-7111.

FOR FURTHER INFORMATION CONTACT: Jeremy Jennings, Remedial Project Manager, U.S. Environmental Protection Agency, Region 10, ECL-122, 1200 Sixth Avenue, Suite 900, Seattle WA 98101, (206-553-2724) email jennings.jeremy@epa.gov.

SUPPLEMENTARY INFORMATION: The site to be deleted from the NPL is: Vancouver Water Station #1 Superfund Site, Vancouver, Washington. A Notice of Intent to Delete for this Site was published in the Federal Register (82 FR 44548-44551) on September 25, 2017.

The closing date for comments on the Notice of Intent To Delete was October 25, 2017. One public comment was received. The comment was not a site-specific adverse comment and EPA is proceeding with deletion. A responsiveness summary was prepared and placed in both the docket, EPA-HQ-SFUND-1994-0009, on www.regulations.gov, and in the site information repositories listed above.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: January 23, 2018.
Chris Hladick,
Regional Administrator—Region 10.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of Appendix B to part 300 is amended by removing the entry “WA”, “Vancouver Water Station #1 Contamination”, “Vancouver”.

[FR Doc. 2018-02353 Filed 2-5-18; 8:45 am]

BILLING CODE 6560-50-P